DEPARTMENT OF DEFENSE

Office of the Secretary

[Transmittal Nos. 13-31]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-31 with attached transmittal, and policy justification.

Dated: July 2, 2013.
Aaron Siegel,
Alternate OSD Federal Register Liaison Officer, Department of Defense.

Transmittal No. 13-31

Notice of Proposed Issuance of Letter of Offer

Pursuant to Section 36(b)(1) of the Arms Export Control Act, as Amended

(i) Prospective Purchaser: Finland

(ii) Total Estimated Value:

Major Defense Equipment* | $0.0 million
Other | $170.0 million
Total | $170.0 million
* as defined in Section 47(6) of the Arms Export Control Act.

(iii) Description and Quantity or Quantities of Articles or Services under Consideration for Purchase: follow-on equipment and support for Finland's F-18 Mid-Life Upgrade (MLU) Program, consisting of F-18C/D Fleet Retrofit Kits of the following systems: 69 KIV-78s (Mode 5 Identification Friend or Foe), 69 AN/APX-11-30s (Combined Interrogator/Transponders), Multifunctional Information Distribution Systems, and 32 SUU-63 pylons. The proposed program support includes software test and integration center upgrades, flight testing, spare and repair parts, support and test equipment, transportation, publications and technical documentation, personnel training and training equipment, U.S. Government and contractor technical and logistics support services, and other related elements of logistics support.

(iv) Military Department: Navy (GAU)

(v) Prior Related Cases:

FMS case SAA—$2.4 billion—9Jun92

FMS case SAB—$702 million—7Feb94

FMS case GAD—$25 million—13Jul01

FMS case LBB—$63 million—4Aug01

FMS case LBC—$127 million—1Jan04

FMS case LBD—$252 million—25Jul07

FMS case LBH—$307 million—3Apr09

.

(vi) Sales Commission, Fee, etc., Paid, Offered, or Agreed to be Paid: None

(vii) Sensitivity of Technology Contained in the Defense Article or Defense Services Proposed to be Sold: None

(viii) Date Report Delivered to Congress: 27 June 2013

POLICY JUSTIFICATION

Finland—F-18 Mid-Life Upgrade Program

The Government of Finland has requested a possible sale of follow-on equipment and support for Finland's F-18 Mid-Life Upgrade (MLU) Program, consisting of F-18C/D Fleet Retrofit Kits of the following systems: 69 KIV-78s (Mode 5 Identification Friend or Foe), 69 AN/APX-11-30s (Combined Interrogator/Transponders), Multifunctional Information Distribution Systems, and 32 SUU-63 pylons. The proposed program support includes software test and integration center upgrades, flight testing, spare and repair parts, support and test equipment, transportation, publications and technical documentation, personnel training and training equipment, U.S. Government and contractor technical and logistics support services, and other related elements of logistics support. The estimated cost is $170 million.

The proposed sale will contribute to the foreign policy and national security of the United States by helping to improve the security of a friendly country which has been, and continues to be an important force for political stability and economic progress in Europe.

The Finnish Air Force (FAF) intends to purchase the MLU Program equipment to extend the useful life of its F-18 fighter aircraft and enhance their survivability and communications connectivity. The FAF needs this upgrade to keep pace with technology advances in sensors, weaponry, and communications. Finland has extensive experience operating the F-18 aircraft and will have no difficulty incorporating the upgraded capabilities into its forces.

The proposed sale of this equipment and support will not alter the basic military balance in the region.

The principal contractors will be Raytheon in Waltham, Massachusetts; Lockheed Martin in Bethesda, Maryland; The Boeing Company in St. Louis, Missouri; BAE North America in Arlington, Virginia; General Electric in Fairfield, Connecticut; General Dynamics in West Falls Church, Virginia; Northrop Grumman in Falls Church, Virginia; and Rockwell Collins in Cedar Rapids, Iowa. There are no known offset agreements proposed in connection with this potential sale.

Implementation of this proposed sale will require multiple trips to Finland involving U.S. Government and contractor representatives for technical reviews/support, program management, and training.

There will be no adverse impact on U.S. defense readiness as a result of this proposed sale.

[FR Doc. 2013-16314 Filed 7-8-13; 8:45 am]

BILLING CODE 5001-06-P